DEPARTMENT OF HOMELAND SECURITY

Federal Emergency Management Agency

Agency Information Collection Activities: Proposed Collection; Comment Request

AGENCY: Federal Emergency Management Agency, Emergency Preparedness and Response Directorate, Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments on two forms used by FEMA's National Emergency Training Center (NETC) to approve and coordinate the use of the NETC facility for extracurricular training activities.

SUPPLEMENTARY INFORMATION: NETC is a FEMA facility that houses the Emergency Management Institute (EMI) and the National Fire Academy (NFA). NETC provides training and educational programs for Federal, State, and local personnel in hazard mitigation, emergency response and preparedness, fire prevention and control, disaster response, and long-term disaster recovery. Special groups sponsored by EMI, NFA or other FEMA organizations may use NETC facilities to conduct activities closely related to and in direct support of their activities. Such groups include other Federal departments and agencies, groups chartered by Congress such as the American Red Cross, State and local governments, volunteer groups, and national and international associations representing State and local governments.

Collection of Information

Title: Approval and Coordination of Requirements to use NETC for Extracurricular Training Activities.

Type of Information Collection: Revision of a currently approved collection.

OMB Number: 1660-0029.

Form Numbers: FEMA Form 75-10, Request for Housing Accommodations; and FEMA Form 75-11, Request for Use of NETC Facilities.

Abstract: Data will be obtained from special groups that request to use NETC facilities for extracurricular training activities. Extracurricular training is training over and above regularly scheduled training sessions of NFA and EMI. The policy of NETC is to accommodate other training activities on a space-available basis at the Emmitsburg campus. In order for NETC to approve and schedule the use of its facilities, information must be provided by special group organizations. A written, e-mail or telephone request for use of NETC facilities is initially made to determine availability of the facilities. If space is available, the contact person for the special group must follow up by completing FEMA Form 75-11 to provide information on the number of participants, meals, and special requirements. The information is used to assign classrooms, schedule equipment, and arrange for food service.

Affected Public: Not-for-profit institutions; Federal Government; State, local or tribal government; individuals or households; and business or other for-profit.

Estimated Total Annual Burden Hours: 142 hrs.

FEMA forms | No. of respondents (A) | Frequency of response (B) | Hours per response (C) (minutes) | Annual burden hours (A × B × C) (hours)
75-10 | 1500 | 1 | 5 | 125
75-11 | 100 | 1 | 10 | 17
Total | 1600 | 1 | 15 | 142

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472; e-mail address: InformationCollections @fema.gov; or, facsimile (202) 646-3347.

FOR FURTHER INFORMATION CONTACT: Merril Sollenberger, Special Groups and Visitors Coordinator, U.S. Fire Administration, telephone number (301) 447-1179, facsimile number (301) 447-1366, or e-mail address: merril.sollenberger@dhs.gov for additional information. You may contact Ms. Anderson for copies of the proposed information collection.

Dated: December 22, 2003.
Edward W. Kernan,
Division Director, Information Resources Management Division, Information Technology Services Directorate.

[FR Doc. 03-32199 Filed 12-30-03; 8:45 am]

BILLING CODE 9110-17-P